DEPARTMENT OF HOMELAND SECURITY

Federal Emergency Management Agency

[Docket ID FEMA-2018-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of January 18, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

David I. Maurstad,
Deputy Associate Administrator for Insurance and Mitigation, Department of Homeland Security, Federal Emergency Management Agency.

Community | Community map repository address
Dixie County, Florida and Incorporated Areas
Docket No.: FEMA-B-1757
Town of Cross City | Town Hall, 99 Northeast 210th Avenue, Cross City, FL 32628.
Town of Horseshoe Beach | Town Hall, 18 5th Avenue East, Horseshoe Beach, FL 32648.
Unincorporated Areas of Dixie County | Dixie County Building and Zoning Department, 387 Southeast 22nd Avenue, Cross City, FL 32628.
Levy County, Florida and Incorporated Areas
Docket No.: FEMA-B-1757
City of Cedar Key | City Hall, 490 2nd Street, Cedar Key, FL 32625.
Town of Inglis | Town Hall, 135 Highway 40 West, Inglis, FL 34449.
Town of Yankeetown | Town Hall, 6241 Harmony Lane, Yankeetown, FL 34498.
Unincorporated Areas of Levy County | Levy County Development Department, 622 East Hathaway Avenue, Bronson, FL 32621.
Clackamas County, Oregon and Incorporated Areas
Docket No.: FEMA-B-1703
City of Sandy | City Hall, 39250 Pioneer Boulevard, Sandy, OR 97055.
Unincorporated Areas of Clackamas County | Clackamas County Public Services, 2051 Kaen Road, Oregon City, OR 97045.
Greenville County, South Carolina and Incorporated Areas
Docket No.: FEMA-B-1749
Unincorporated Areas of Greenville County | Greenville County Floodplain Management Office, 301 University Ridge, Suite 4100, Greenville, SC 29601.
Whatcom County, Washington and Incorporated Areas
Docket Nos.: FEMA-B-1558 and FEMA-B-1747
City of Bellingham | City Hall, 210 Lottie Street, Bellingham, WA 98225.
City of Blaine | City Hall, 435 Martin Street, Suite 3000, Blaine, WA 98230.
City of Ferndale | Planning and Public Works Department, 2095 Main Street, Ferndale, WA 98248.
City of Lynden | City Hall, 300 4th Street, Lynden, WA 98264.
City of Nooksack | City Hall, 103 West Madison Street, Nooksack, WA 98276.
Lummi Indian Reservation | Lummi Nation Natural Resources Department, 2665 Kwina Road, Bellingham, WA 98226.
Unincorporated Areas of Whatcom County | Public Works/River and Flood Division, 322 North Commercial Street, Suite 120, Bellingham, WA 98225.

[FR Doc. 2018-23162 Filed 10-23-18; 8:45 am]

BILLING CODE 9110-12-P